NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by March 20, 2020. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2020-027

1. Applicant: Michael Hjorth, Head of Production, Albatros Expeditions US Ltd., 4770 Biscayne Boulevard PHR, Miami, FL 33137.

Activity for Which Permit is Requested: Waste Management. The applicant proposes to conduct waste management activities associated with the support of a marathon, conducted by Marathon Tours and Travel, on King George Island. Support of the marathon would include the operation of All Terrain Vehicles (ATVs) and Remotely Piloted Aircraft Systems (RPAS). Refueling of ATVs would be according to best practices by experienced staff. Any fuel spilled would be cleaned up immediately and reported to the station should there be any concern for residual. The RPAS consisting, in part, of a quadcopter equipped with cameras to collect commercial and educational footage of the Antarctic. The quadcopter would not be flown over concentrations of birds or mammals, or over Antarctic Specially Protected Areas or Historic Sites and Monuments. The RPAS would only be operated by pilots with extensive experience. Several measures would be taken to prevent against loss of the quadcopter including painting the them a highly visible color; only flying when the wind is less than 25 knots; flying for only 15 minutes at a time to preserve battery life; having prop guards on propeller tips, a flotation device if operated over water, and an “auto go home” feature in case of loss of control link or low battery; having an observer on the lookout for wildlife, people, and other hazards; and ensuring that the separation between the operator and quadcopter does not exceed an operational range of 500 meters. The applicant is seeking a Waste Permit to cover any accidental releases that may result from operating the RPAS and ATVs. All waste materials produced during the marathon activity would be collected and mitigation measures would be in place to reduce the possibility of waste release. The applicant would provide temporary, portable toilet facilities to marathon participants. All human waste generated would be returned to the ship for disposal.

Location: King George Island, Antarctica.

Dates of Permitted Activities: March 23-April 10, 2020.

Erika N. Davis,
Program Specialist, Office of Polar Programs.

[FR Doc. 2020-03165 Filed 2-18-20; 8:45 am]

BILLING CODE 7555-01-P